DEPARTMENT OF ENERGY

Federal Energy Regulatory Commission

[Project No. 184-246]

El Dorado Irrigation District; Notice of Application Accepted for Filing, Soliciting Comments, Motions To Intervene, and Protests

Take notice that the following hydroelectric application has been filed with the Commission and is available for public inspection:

a. Type of Application: Application for Temporary Variance of Minimum Flow Requirements.

b. Project No.: 184-246.

c. Date Filed: April 9, 2015.

d. Applicant: El Dorado Irrigation District (licensee).

e. Name of Project: El Dorado Project.

f. Location: South Fork American River and its tributaries in El Dorado, Alpine, and Amador counties, California.

g. Filed Pursuant to: Federal Power Act, 16 U.S.C. 791(a)-825(r).

h. Applicant Contact: Brian Deason, Hydroelectric Compliance Analyst, (530) 642-4064, or bdeason@eid.org.

i. FERC Contact: John Aedo, (415) 369-3335, or john.aedo@ferc.gov.

j. Deadline for filing comments, motions to intervene, protests, and recommendations is 15 days from the issuance date of this notice by the Commission (April 28, 2015). The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. Please include the project number (P-184-246) on any comments, motions to intervene, protests, or recommendations filed.

k. Description of Request: The licensee requests a modification of its previous March 25, 2015 request for temporary flow variance, which is currently pending before the Commission. Specifically, the licensee requests an expanded temporary flow variance at the South Fork American River below Kyburz location, such that flows are reduced: from required 60 cubic feet per second (cfs) to 45 cfs from May 1-15; from the required 60 cfs to 30 cfs from May 16-31; from the required 60 cfs to 18 cfs in June; from the required 40 cfs to 15 cfs in July; and from the required 18 cfs to 15 cfs in August.

The licensee states that the revised request is in response to worsening drought conditions in the project area, including record low snowpack and accelerated spring runoff that has occurred this year. The licensee also states that it maintains its previous request for temporary flow variances in Caples Creek, Echo Creek, Silver Fork American River and Pyramid Creek.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the variance. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 13, 2015.
Kimberly D. Bose,
Secretary.

[FR Doc. 2015-08876 Filed 4-16-15; 8:45 am]

BILLING CODE 6717-01-P